SMALL BUSINESS ADMINISTRATION

[Declaration of Disaster #3330]

Commonwealth of Massachusetts

Middlesex County and the contiguous Counties of Essex, Norfolk, Suffolk and Worcester in Massachusetts; Hillsborough County in the State of New Hampshire constitute a disaster area as a result of damages caused by a fire that occurred on March 25, 2001. Applications for loans for physical damage may be filed until the close of business on June 4, 2001 and for economic injury until the close of business on January 4, 2002 at the address listed below or other locally announced locations: U.S. Small Business Administration, Disaster Area 1 Office, 360 Rainbow Boulevard South, 3rd Floor, Niagara Falls, NY 14303.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 333005 for Massachusetts and 333105 for New Hampshire. The number assigned to this disaster for economic injury is 9L3700 for Massachusetts and 9L3800 for New Hampshire.

(Catalog of Federal Domestic Assistance Program Nos. 59002 and 59008.)
Dated: April 3, 2001.
John Whitmore,
Acting Administrator.

[FR Doc. 01-8808 Filed 4-9-01; 8:45 am]

BILLING CODE 8025-01-P